Proclamation 8267 of May 30, 2008

National Child's Day, 2008

By the President of the United States of America

A Proclamation

America has a duty to provide its children with the support and skills they need to become the next generation of responsible leaders. On National Child's Day, we underscore the importance of fostering the love, encouragement, and protection that empowers our children to become happy and successful adults.

Children are a precious gift who need the love and support of family and friends to lead lives rich in promise and fulfillment. Parents are the most vital part of a child's life, providing them with the guidance and discipline to make the right choices and understand the consequences of their actions. Family, teachers, and others inspire our youth to use their talents and to become confident and caring adults. Religious and community leaders also have a role in teaching values and encouraging children to love their neighbors just as they would like to be loved themselves. Together, we can all help our children be prepared to meet life's challenges and realize the great promise of our country.

My Administration continues to support programs that help prepare America's youth for the opportunities ahead. The No Child Left Behind Act requires that every child have access to a quality education. We have made significant progress toward that goal across the country, with students achieving record math and reading scores. The America COMPETES Act, which was built upon my American Competitiveness Initiative, helped strengthen our goal of staying competitive within the global economy. The Helping America's Youth initiative, led by First Lady Laura Bush, encourages adults to work to help our young people reach their full potential.

On National Child's Day and throughout the year, we honor the boys and girls of America and show our gratitude to those who work to support them. This day is a reminder to us all that our commitment to children helps make our country a better place.

NOW, THEREFORE, I, GEORGE W. BUSH, President of the United States of America, by virtue of the authority vested in me by the Constitution and laws of the United States, do hereby proclaim June 1, 2008, as National Child's Day. I call upon all our citizens to celebrate National Child's Day with appropriate ceremonies and activities. I also urge all Americans to dedicate time and energy to educating our youth and providing them with a safe and caring environment.

IN WITNESS WHEREOF, I have hereunto set my hand this thirtieth day of May, in the year of our Lord two thousand eight, and of the Independence of the United States of America the two hundred and thirty-second.

[FR Doc. 08-1325

Filed 6-3-08; 8:59 am]

Billing code 3195-01-P